Title 3—

The President

Proclamation 7917 of August 15, 2005

National Airborne Day, 2005

By the President of the United States of America

A Proclamation

Americans live in freedom because of the extraordinary bravery, sacrifice, and dedication to duty of the members of our Armed Forces. From the first official Army parachute jump 65 years ago, our country's Airborne troops have played a crucial role in the defense of our Nation and our liberty. On National Airborne Day, we pay special tribute to these courageous soldiers who served with honor and integrity.

On August 16, 1940, the successful first jump of the Army Parachute Test Platoon laid the foundation for a new and innovative method of combat that helped contribute to an Allied victory in World War II. These bold pioneers answered the call of duty and set an example for future generations to follow. Since the designation of the Army's first Airborne division, the 82nd Airborne, on August 15, 1942, our Airborne troops have performed with valor. The brave men and women of our Airborne forces have worked to defeat tyranny, advance the cause of liberty, and build a safer world.

Today a new generation of Airborne forces is fighting a war against an enemy that threatens the peace and stability of the world. At this critical time, Airborne forces of the Army, Navy, Marines, and Air Force are continuing the noble tradition of the first sky soldiers. Americans are grateful for the service of our Airborne forces and all our troops, and we are inspired by the strength and sacrifice of our military members and their families.

NOW, THEREFORE, I, GEORGE W. BUSH, President of the United States of America, by virtue of the authority vested in me by the Constitution and laws of the United States, do hereby proclaim August 16, 2005, as National Airborne Day. I encourage all Americans to honor those who have served in the Airborne forces, and I also call upon all citizens to observe this day with appropriate programs, ceremonies, and activities.

IN WITNESS WHEREOF, I have hereunto set my hand this fifteenth day of August, in the year of our Lord two thousand five, and of the Independence of the United States of America the two hundred and thirtieth.

B

[FR Doc. 05-16496

Filed 8-17-05; 8:45 am]

Billing code 3195-01-P